DELAWARE RIVER BASIN COMMISSION

Notice of Final Rule; Amendment to the Delaware River Basin Commission's Water Code and Comprehensive Plan To Establish Water Usage Reporting Requirements and Modify Water Metering Requirements

SUMMARY: At its April 19, 2001 business meeting, the Delaware River Basin Commission (“Commission”) amended its Water Code and Comprehensive Plan to establish water usage reporting requirements for source water withdrawals and water service and to modify its existing water metering requirements for consistency with the new reporting provisions. Today's notice fulfills a requirement of the Delaware River Basin Compact, Pennsylvania Act No. 268 of 1961, that rules adopted by the Commission be filed in accordance with the laws of the signatory parties.

EFFECTIVE DATE: These amendments are effective immediately.

FOR FURTHER INFORMATION CONTACT: Additional information, including background on the need for water usage reporting requirements and an account of the process by which the amendments were developed, is contained in the original Notice of Proposed Rulemaking, November 29, 2000 (65 FR 71094). The text of the new reporting requirements and the complete Water Code as amended are available on the Commission's web site at http://www.DRBC.net, or upon request from the Delaware River Basin Commission, P.O. Box 7360, West Trenton, NJ 08628-0360. For further information, contact Pamela M. Bush, Commission Secretary and Assistant General Counsel, Delaware River Basin Commission, (609)-883-9500 (x203).

SUPPLEMENTARY INFORMATION: On October 23, 2000 the Commission published on its web site a Notice of Proposed Rulemaking to establish water usage reporting requirements to ensure that the Commission has the source and service information needed to evaluate how and where water is being used in the basin. Notice was published in the Federal Register on November 29, 2000 (65 FR 71094), the Delaware Register of Regulations on December 1, 2000, the New Jersey Register on December 4, 2000, the New York State Register on November 22, 2000 and the Pennsylvania Register on November 11, 2000. A public hearing was held on January 9, 2001. The proposed amendments were substantively revised on the basis of the written and oral testimony received, and a notice of revised proposed rulemaking was published in the Federal Register on March 1, 2001 (66 FR 12930), the Delaware Register of Regulations on March 1, 2001, the New Jersey Register on March 5, 2001, the New York State Register on February 28, 2001 and the Pennsylvania Bulletin on March 3, 2001. An additional comment period and public hearing were provided. The final rule was approved by the Commission at the conclusion of the hearing on April 19, 2001.

The final rule amends Section 2.50.1, “Service Metering” and Section 2.50.2, “Source Metering, Recording and Reporting” of the Commission's Water Code and adds a new Section 2.50.3, “Reporting Requirements.” The title of Section 2.50 is revised to read, “Water Metering and Reporting Requirements.” Section 2.50.1 is amended to authorize, rather than require, the Executive Director to enter into administrative agreements with the implementing agencies of the signatory states, whereby the appropriate state agencies will administer and enforce the provisions of the regulation. Section 2.50.1 is further amended to provide that in the absence of such an administrative agreement, the Commission shall serve as the agency for administration and enforcement. Section 2.50.2 is amended to provide that the Commission shall administer and enforce the regulation in the New York portion of the basin. New Section 2.50.3 enumerates the types of source and service data to be reported for water supply systems serving the public and for other withdrawals subject to the requirements of Section 2.50.1, Section 2.50.2 and the Commission's Ground Water Protected Area Regulations. In order to avoid redundant reporting, Section 2.50.3 enumerates different reporting requirements for the year 2000 than for subsequent years. For the year 2000, a greater one-time effort is required to initiate reporting. For subsequent years, a much smaller effort is required to continue reporting.

Dated: March 11, 2002.
Pamela M. Bush,
Commission Secretary.

[FR Doc. 02-6219 Filed 3-21-02; 8:45 am]

BILLING CODE 6360-01-P